FEDERAL COMMUNICATIONS COMMISSION

[Report No. 2872]

Petitions for Reconsideration and Clarification of Action in Rulemaking Proceeding

August 20, 2008.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1)-800-378-3160). Oppositions to these petitions must be filed by September 15, 2008. See Section 1.4(b)(1) of the Commission's rules (47 CFR 1.4(b)(1)). Replies to oppositions must be filed within 10 days after the time for filing oppositions have expired.

Subject: In the Matter of Telecommunications Relay Services and Speech-to-Speech Services for Individuals with Hearing and Speech Disabilities (CG Docket No. 03-123).

E911 Requirements for IP-Enabled Service Providers (WC Docket No. 05-196).

Number of Petitions Filed: 2.

Marlene H. Dortch,
Secretary.

[FR Doc. E8-20126 Filed 8-28-08; 8:45 am]

BILLING CODE 6712-01-P